NUCLEAR REGULATORY COMMISSION

[Docket Nos. 50-255-LT-2, 50-155-LT-2, 72-007-LT, and 72-043-LT-2 ASLBP No. 22-974-01-LT-BD01]

Entergy Nuclear Operations, Inc., Entergy Nuclear Palisades, LLC, HOLTEC International, and HOLTEC Decommissioning International, LLC (Palisades Nuclear Plant and Big Rock Point Site); Notice of Atomic Safety and Licensing Board Reconstitution

Pursuant to 10 CFR 2.313(c) and 2.321(b), the Atomic Safety and Licensing Board in the above-captioned Palisades Nuclear Plant and Big Rock Point Site proceeding is hereby reconstituted by designating Administrative Judge Michael M. Gibson to serve as Presiding Officer due to the unavailability of Administrative Judge Paul S. Ryerson.

All correspondence, documents, and other materials shall continue to be filed in accordance with the NRC E-filing rule. See 10 CFR 2.302.

Rockville, Maryland.
Dated: January 10, 2023.
Edward R. Hawkens,
Chief Administrative Judge, Atomic Safety and Licensing Board Panel.

[FR Doc. 2023-00642 Filed 1-13-23; 8:45 am]

BILLING CODE 7590-01-P